DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Whiting Advisory Panel in August, 2010 to consider actions affecting New England fisheries in the exclusive economic zone (EEZ). Recommendations from this group will be brought to the full Council for formal consideration and action, if appropriate.

DATES: The meeting will be held on Friday, August 6, 2010 at 9 a.m.

ADDRESSES: Meeting address: The meeting will be held at The School for Marine Science and Technology—AT&T Building, 200 Mill Road, Fairhaven, MA 02719: telephone: (508) 999-8193; fax: (508) 999-8197.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Council will hold a meeting for Whiting Advisors, stakeholders, and interested parties to provide input on fishery data that will be used to assess the status of and estimate biological reference points for silver hake, offshore hake, and red hake. The Council and NMFS is seeking advice about problems and potential solutions using data derived from reported landings, vessel trip reports, sea sampling and discard estimates, fishing effort, and research vessel surveys. A brief overview of these data will be presented by the lead assessment scientists.

This meeting is physically accessible to people with disabilities. Requests for sign language interpretation or other auxiliary aids should be directed to Paul J. Howard, Executive Director, at 978-465-0492, at least 5 days prior to the meeting date.

Authority: 16 U.S.C. 1801 et seq.

Dated: July 20, 2010.
Tracey L. Thompson,
Acting Director, Office of Sustainable Fisheries, National Marine Fisheries Service.

[FR Doc. 2010-18122 Filed 7-22-10; 8:45 am]

BILLING CODE 3510-22-P